POSTAL REGULATORY COMMISSION

39 CFR Part 3030

[Docket No. RM2021-2; Order No. 5862]

Market Dominant Products

AGENCY: Postal Regulatory Commission.

ACTION: Advance notice of proposed rulemaking.

SUMMARY: The Commission is initiating a review seeking input from the public about what additional regulations promulgated by the Commission may be necessary to achieve the objectives of the Postal Accountability and Enhancement Act (PAEA) particularly related to maximizing incentives to increase efficiency and reduce costs, maintaining high-quality service standards, and assuring financial stability (including retained earnings). This advance notice informs the public of the docket's initiation, invites public comment, and takes other administrative steps.

DATES:

Comments are due: July 14, 2021.

Reply comments are due: August 13, 2021.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: On January 15, 2021, the Commission established this proceeding to seek public input regarding any additional regulations that may be necessary to achieve the objectives of the Postal Accountability and Enhancement Act (PAEA) ¹ over the longer-term, particularly for issues such as “maximizing incentives to increase efficiency and reduce costs, maintaining high-quality service standards, and assuring financial stability (including retained earnings).” ² The Commission established April 15, 2021, and May 17, 2021, as the deadlines for filing comments and reply comments, respectively. Order No. 5816 at 15.

¹ Public Law 109-435, 201, 120 Stat. 3198, 3204 (2006).

² Advance Notice of Proposed Rulemaking Regarding Performance Incentive Mechanism, January 15, 2021, at 1 (Order No. 5816).

On March 23, 2021, the Postal Service published a ten-year plan announcing potential changes intended to achieve financial stability and service excellence.³ On April 1, 2021, the National Association of Presort Mailers (NAPM) filed a request for an extension of the deadline for initial comments in this proceeding.⁴ NAPM raises three reasons in support of its Request, which are generally premised on recent developments resulting from the potential changes announced in the Postal Service's Plan. See Request at 1-2. First, NAPM asserts that it would be premature to discuss the issues raised in this proceeding without a fuller understanding of the potential changes announced in the Postal Service's Plan. See id. Second, NAPM observes that commenters may face difficulties in providing effective comments on issues related to the maintenance of high-quality service standards by the established deadline because the Postal Service also recently announced plans to reduce service standards for First-Class Mail and Periodicals.⁵ Third, noting that the Postal Service has recently initiated five proceedings in which mailing association stakeholders intend to participate,⁶ NAPM requests that the Commission consider how the resources of commenters affect their ability to meaningfully respond to multiple filing deadlines. See Request at 2.

³ See United States Postal Service, Delivering for America: Our Vision and Ten-Year Plan to Achieve Financial Sustainability and Service Excellence, March 23, 2021, at 3, available at https://about.usps.com/what/strategic-plans/delivering-for-america/assets/USPS_Delivering-For-America.pdf (Postal Service's Plan).

⁴ Request for Extension of Initial Comments Deadline, April 1, 2021 (Request).

⁵ See Request at 2; see also Postal Service's Plan at 52; Docket No. N2021-1, Notice of Pre-Filing Conference, March 23, 2021.

⁶ No specific proceedings are referenced in the Request other than Docket No. N2021-1; however, the Commission takes note of the following four proceedings recently initiated by the Postal Service: Docket Nos. RM2021-5, CP2021-81, MC2021-78, and RM2021-4. See Docket No. RM2021-5, United States Postal Service Application for Waiver Under 39 CFR 3030.286, March 26, 2021 (seeking waiver of rules for setting the First-Class Mail Letters 5-Digit Automation workshare discount in the next rate adjustment filing); Docket No. CP2021-81, USPS Notice of Changes in Class of General Applicability for a Competitive Product, March 26, 2021 (seeking to eliminate the 10:30 a.m. delivery option for the Priority Mail Express product and the associated fee for that option); Docket No. MC2021-78, United States Postal Service Request to Transfer Bound Printed Matter Parcels to the Competitive Product List, March 26, 2021 (seeking to transfer Bound Printed Matter Parcels from the Market Dominant product list to the Competitive product list); Docket No. RM2021-4, Petition of the United States Postal Service for the Initiation of a Proceeding to Consider Proposed Changes in Analytical Principles (Proposal Two), March 24, 2021 (seeking to change the assignment of cost pools in the First-Class Mail cost avoidance model).

The Association of Postal Commerce (PostCom) and the Public Representative support this Request.⁷ PostCom agrees with NAPM's assessment of the recent developments. PostCom Statement at 1. The Public Representative asserts that extending both the initial and reply comment deadlines would allow interested persons to better evaluate the advisability of adopting a performance incentive mechanism and the structure of such a mechanism in light of the Postal Service's recently announced service changes. Public Representative Response at 1.

⁷ Statement in Support of the National Association of Presort Mailers Request for Extension of Initial Comments Deadline, March 30, 2021 (PostCom Statement); Response of the Public Representative in Support of Request for Extension of Comment Deadlines, April 2, 2021 (Public Representative Response).

Given the recent developments, this requested extension is reasonable and does not prejudice any party. Therefore, the Request is granted.

Comments are due July 14, 2021. Reply comments are due August 13, 2021.

It is ordered:

1. The Request for Extension of Initial Comments Deadline, filed on April 1, 2021, is granted.

2. Interested persons may submit comments no later than July 14, 2021.

3. Interested persons may submit reply comments no later than August 13, 2021.

4. The Secretary shall arrange for publication of this order in the Federal Register.

By the Commission.
Erica A. Barker,
Secretary.

[FR Doc. 2021-07521 Filed 4-12-21; 8:45 am]

BILLING CODE 7710-FW-P